ENVIRONMENTAL PROTECTION AGENCY

[EPA-HQ-OAR-2009-0253; FRL-8975-3; EPA ICR No. 1847.05; OMB Control No. 2060-0390]

Agency Information Collection Activities: Submission to OMB for Review and Approval; Comment Request; Emission Guidelines for Large Municipal Waste Combustors Constructed on or Before September 20, 1994 (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB). This is a request to renew an existing approved collection. The ICR, which is abstracted below, describes the nature of the information collection and its estimated burden and cost.

DATES: Additional comments may be submitted on or before November 30, 2009.

ADDRESSES: Submit your comments, referencing Docket ID No. EPA-HQ-OAR-2009-0253 to EPA online using http://www.regulations.gov (our preferred method) or by mail to: EPA Docket Center, Environmental Protection Agency, Mailcode: 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Walt Stevenson, Sector Policies and Programs Division, Office of Air Quality Planning and Standards, Mail Code D243-01, Environmental Protection Agency, 109 T.W. Alexander Drive, Research Triangle Park, NC 27711; telephone number: 919-541-5264; fax number: 919-541-5450; e-mail address: Stevenson.Walt@epa.gov.

SUPPLEMENTARY INFORMATION: EPA has submitted the following ICR to OMB for review and approval according to the procedures prescribed in 5 CFR 1320.12. On July 24, 2009 (74 FR 36696), EPA sought comments on this ICR pursuant to 5 CFR 1320.8(d). EPA received no comments during the comment period. Any additional comments on this ICR should be submitted to EPA and OMB within 30 days of this notice.

EPA has established a public docket for the ICR under Docket ID No. EPA-HQ-OAR-2009-0253, which is available for online viewing at http://www.regulations.gov or in person viewing at the Air and Radiation Docket in the EPA Docket Center (EPA/DC), EPA West Building, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at http://www.regulations.gov to submit or view public comments, access the index listing of the contents of the docket, and to access those documents in the public docket that are available electronically. Once in the system, select “docket search,” then key in the docket ID number identified in this document. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Emission Guidelines for Large Municipal Waste Combustors Constructed on or before September 20, 1994 (Renewal).

ICR numbers: EPA ICR No. 1847.05, OMB Control No. 2060-0390.

ICR status: This ICR is scheduled to expire on November 30, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, and are displayed either by publication in the Federal Register or by other appropriate means, such as on the related collection instrument or form, if applicable. The display of OMB control numbers in certain EPA regulations is consolidated in 40 CFR part 9.

Abstract: The ICR is a renewal of current data collection and reporting requirements for large municipal waste combustors (MWC)s subject to 40 CFR part 60, subpart Cb emission guidelines. The subpart Cb guidelines are maximum achievable control technology (MACT) based standards that were adopted in 1995 and were fully implemented by year 2000. The data collected by the ICR are intended to monitor the compliance status of large MWCs subject to these MACT standards. The data collection is a mandatory requirement (Clean Air Act section 114(a)(1)).

The emission guidelines require initial notifications, performance tests, and periodic reports. Owners or operators of large MWCs also are required to maintain records of the occurrence and duration of any startup, shutdown, or malfunction in the operation of an affected facility, or any period during which the monitoring system is inoperative. Owners or operators of large MWCs must maintain all files for least five years.

Burden Statement: The annual public reporting and recordkeeping burden for this collection of information is estimated to average 1,725 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Large Municipal Waste Combustors.

Estimated Number of Respondents: 81.

Frequency of Response: Annual, semiannual.

Estimated Total Annual Hour Burden: 394,954.

Estimated Total Annual Cost: $50,588,150, which includes labor costs of $49,032,950 and operation and maintenance costs of $1,555,200.

Changes in Estimates: There is an increase of 356,537 hours in the total estimated burden currently identified in the OMB Inventory of Approved ICR Burdens. The original ICR included only the burden for large MWCs subject to the Federal 111(d) plan for large MWCs. This ICR renewal includes the additional burden of large MWCs subject to approved State Section 111(d) plans and for State agencies implementing the Section 111(d) plans.

Dated: October 23, 2009.
Richard T. Westlund,
Acting Director, Collection Strategies Division.

[FR Doc. E9-26082 Filed 10-28-09; 8:45 am]

BILLING CODE 6560-50-P